COMMITTEE FOR THE IMPLEMENTATION OF TEXTILE AGREEMENTS

Request for Public Comments on Cambodian Labor Law and Standards Pursuant to the U.S.-Cambodia Bilateral Textile Agreement

October 31, 2000.

AGENCY: Committee for the Implementation of Textile Agreements (CITA).

ACTION: Notice concerning Cambodian labor law and standards.

FOR FURTHER INFORMATION CONTACT: Roy Unger, International Trade Specialist, Office of Textiles and Apparel, U.S. Department of Commerce, (202) 482-4212. For information on categories for which consultations have been requested, call (202) 482-3740.

SUPPLEMENTARY INFORMATION:

Authority: Section 204 of the Agricultural Act of 1956, as amended (7 U.S.C. 1854); Executive Order 11651 of March 3, 1972, as amended.

A notice and letter to the Commissioner of Customs published in the Federal Register on February 8, 1999 (see 64 FR 6050) outlined the bilateral textile agreement of January 20, 1999 in which the Governments of the United States and Cambodia agreed to limits for certain cotton, wool and man-made fiber textile products, produced or manufactured in Cambodia and exported to the United States during three one-year periods beginning on January 1, 1999 and extending through December 31, 2001.

Pursuant to the bilateral textile agreement, the United States must make a determination by December 1, 2000 as to whether working conditions in the Cambodian textile and apparel sector substantially comply with Cambodian labor law and internationally recognized core labor standards. If the United States makes a positive determination, textile and apparel specific limits will be increased for the subsequent agreement year.

Anyone wishing to comment or provide data or information regarding this matter is invited to submit 10 copies of such comments or information to Richard B. Steinkamp, Acting Chairman, Committee for the Implementation of Textile Agreements, U.S. Department of Commerce, Washington, DC 20230; ATTN: Becky Geiger. The deadline for receipt of comments is November 15, 2000.

Comments or information submitted in response to this notice will be available for public inspection in the Office of Textiles and Apparel, room H3100, U.S. Department of Commerce, 14th and Constitution Avenue, NW., Washington, DC.

The solicitation of comments is not a waiver in any respect of the exemption to the rulemaking provisions contained in 5 U.S.C.553(a)(1) relating to matters which constitute “a foreign affairs function of the United States.”

D. Michael Hutchinson,
Acting Chairman, Committee for the Implementation of Textile Agreements.

[FR Doc. 00-28261 Filed 10-31-00; 12:39 pm]

BILLING CODE 3510-DR-F